DEPARTMENT OF TRANSPORTATION

Federal Aviation Administration

14 CFR Part 39

[Docket No. FAA-2006-25926; Directorate Identifier 2000-CE-17-AD]

RIN 2120-AA64

Airworthiness Directives; Short Brothers & Harland Ltd. Models SC-7 Series 2 and SC-7 Series 3 Airplanes

AGENCY: Federal Aviation Administration (FAA), Department of Transportation (DOT).

ACTION: Notice of proposed rulemaking (NPRM).

SUMMARY: We propose to revise Airworthiness Directive (AD) 2003-17-05, which applies to all Short Brothers & Harland Ltd. (Shorts) Models SC-7 Series 2 and SC-7 Series 3 airplanes. AD 2003-17-05 currently establishes a technical service life for these airplanes and allows you to incorporate modifications, inspections, and replacements of certain life limited items to extend the life limits of these airplanes. Since we issued AD 2003-17-05, Shorts Service Bulletin SB 51-51 was revised to Revision 8, dated July 5, 2006, and the European Aviation Safety Agency (EASA), which is the Technical Agent for the Member States of the European Community, issued an AD for the European Community to correct an unsafe condition for the specified product. AD 2003-17-05 contains conflicting information on the repetitive visual inspection requirement. Consequently, this proposed AD would retain the technical service life for these airplanes; would continue to allow modifications, inspections, and replacements of certain life limited items to extend the life limits of these airplanes; and would clarify the repetitive visual inspection requirement between one of the service bulletins and the maintenance program if an operator chooses to extend the life limit. The actions specified by this proposed AD are intended to clarify the inspection information to prevent failure of critical structure of the aircraft caused by fatigue.

DATES: We must receive comments on this proposed AD by December 28, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact Short Brothers PLC, P.O. Box 241, Airport Road, Belfast BT3 9DZ Northern Ireland; telephone: +44 (0) 28 9045 8444; facsimile: +44 (0) 28 9073 3396.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Comments Invited

We invite you to send any written relevant data, views, or arguments regarding this proposed AD. Send your comments to an address listed under the ADDRESSES section. Include the docket number, “FAA-2006-25926; Directorate Identifier: 2000-CE-17-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

Mandatory continuing airworthiness information (MCAI) issued by the airworthiness authority for the United Kingdom on all Shorts Models SC-7 Series 2 and SC-7 Series 3 airplanes caused us to issue AD 2003-17-05, Amendment 39-13279 (68 FR 50689, August 22, 2003). AD 2003-17-05 established a technical service life for these airplanes and allows you to incorporate modifications, inspections, and replacements of certain life limited items to extend the life limits of these airplanes.

The European Aviation Safety Agency (EASA), which is the Technical Agent for the Member State of the European Community, notified the FAA of the need to revise AD 2003-17-05 to address an unsafe condition that may exist or could develop on all Shorts Models SC-7 Series 2 and SC-7 Series 3 airplanes. This proposed AD results from conflicting information on the repetitive inspection requirement between one of the service bulletins and the maintenance program if an operator chooses to extend the life limit.

The life limits, if not complied with, could result in failure of the primary structural components and possibly result in structural failure during flight.

Relevant Service Information

We received and included the following in AD 2003-17-05 to extend the life limit when incorporated:

—Shorts Service Bulletin No. 51-51, Revision No.: 6, dated: March 14, 1983;

—Shorts Service Bulletin No. 51-52, Revision No.: 4, dated: July 16, 2002; and

—Shorts Skyvan Maintenance Program, Amendment List No. 22, dated May 7, 2003 (any future revision to this maintenance program that incorporates the language and intent is acceptable to use).

Since issuance of AD 2003-17-05, we reviewed (and included in this NPRM) Shorts Service Bulletin Number 51-51, Revision No: 8, dated July 5, 2006; and Shorts Skyvan Maintenance Program, Amendment List No. 23, dated December 14, 2004.

Foreign Airworthiness Authority Information

EASA classified Shorts Service Bulletin Number 51-51, Revision No: 8, dated July 5, 2006, as mandatory and issued EASA AD Number 2006-0190, dated July 6, 2006, to ensure the continued airworthiness of these airplanes in the EU.

These Shorts Models SC-7 Series 2 and SC-7 Series 3 airplanes are manufactured in the United Kingdom and are type-certified for operation in the United States under the provisions of section 21.29 of the Federal Aviation Regulations (14 CFR 21.29) and the applicable bilateral airworthiness agreement.

Under this bilateral airworthiness agreement, EASA has kept us informed of the situation described above.

FAA's Determination and Requirements of the Proposed AD

We are proposing this AD because we have examined EASA's findings, evaluated all information and determined the unsafe condition described previously is likely to exist or develop on other products of the same type design that are certificated for operation in the United States.

This proposed AD would revise AD 2003-17-05 with a new AD that would retain the technical service life for these airplanes; would continue to allow modifications, inspections, and replacements of certain life limited items to extend the life limits of these airplanes; and would clarify the repetitive visual inspection requirement between one of the service bulletins and the maintenance program if an operator chooses to extend the life limit. This proposed AD would require you to use the service information described previously to perform these actions.

Costs of Compliance

We estimate that this proposed AD would affect 22 airplanes in the U.S. registry.

Since the action of the proposed AD is life-limiting the structural airframe, the actual operating cost of this AD is the cost of the airplane minus any non-life-limited parts that are salvageable and can be sold. There is no cost impact difference in this proposed AD to revise AD 2003-17-05 than that originally presented in AD 2003-17-05, except for the recalculation of the labor costs using the revised figure of $80 per hour instead of $65 per hour.

The following paragraphs present the costs if you choose to incorporate the inspections and modifications necessary to extend the life limit.

We estimate the following costs to do the proposed optional aircraft life extension on 16 airplanes (all airplanes that do not have serial number SH1845, SH1883, SH1847, SH1889, SH1943, or SH1960) as prescribed in Shorts Service Bulletin No. 51-51:

Labor cost | Parts cost | Total cost per airplane | Total cost on U.S. operators
350 work-hours × $80 per hour = $28,000 | $90,000 | $118,000 | $1,888,000

We estimate the following to do the proposed aircraft life extension prescribed in Shorts Service Bulletin No. 51-52 (which includes Service Bulletin 51-51) for serial numbers 1889, 1943, and 1960:

Labor cost | Parts cost | Total cost per airplane | Total cost on U.S. operators
470 work-hours × $80 per hour = $37,600 | $112,000 | $149,600 | $448,800

We estimate the following to do the proposed aircraft life extension prescribed in Shorts Service Bulletin No. 51-52 for serial numbers 1845, 1847, and 1883:

Labor cost | Parts cost | Total cost per airplane | Total cost on U.S. operators
120 work-hours × $80 per hour = $9,600 | $22,000 | $31,600 | $94,800

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2003-17-05, Amendment 39-13279 (68 FR 50689, August 22, 2003), and adding the following new AD:

Short Brothers & Harland Ltd.: Docket No. FAA-2006-25926; Directorate Identifier 2000-CE-17-AD.

Comments Due Date

(a) We must receive comments on this airworthiness directive (AD) action by December 28, 2006.

Affected ADs

(b) This AD revises AD 2003-17-05, Amendment 39-13279.

Applicability

(c) This AD applies to Models SC-7 Series 2 and SC-7 Series 3 airplanes, all serial numbers, that are certificated in any category.

Unsafe Condition

(d) This revised AD results from conflicting information of the repetitive inspection requirement between one of the service bulletins and the maintenance program if an operator chooses to extend the life limit. We are issuing this AD to clarify the inspection information to prevent failure of critical structure of the aircraft caused by fatigue.

Compliance

(e) Do not operate the airplane upon accumulating the applicable life limit or within the next 90 days after September 29, 2003 (the effective date of AD 2003-17-05), whichever occurs later. For owners/operators that do not have a record of the number of flights on the aircraft, assume the number of flights on the basis of two per operating hour. The following table presents the life limits:

Table 1.—Original Life Limits
Serial No. | Life limit
(1) SH1845 and SH1883 | 10,000 hours time-in-service (TIS).
(2) SH1847 | 15,200 hours TIS.
(3) SH1889 | 13,805 flights.
(4) SH1943 | 11,306 flights.
(5) SH1960 | 4,142 flights.
(6) All airplanes that do not have serial number SH1845, SH1883, SH1847, SH1889, SH1943, or SH1960 | 20,000 flights.

(f) For airplanes with serial numbers SH1845, SH1847, or SH1883: You can extend the life limits by doing the actions of Shorts Service Bulletin No. 51-52, Revision No.: 4, dated: July 16, 2002 (and all service information or modifications referenced in the Planning Information section of the service bulletin), and Shorts Skyvan Maintenance Program, Amendment List No. 22, dated May 7, 2003, or Amendment List No. 23, dated December 14, 2004, or future revisions. Any future revisions to this maintenance program shall not change the inspection intervals, requirements, or the life limits of this AD. The following table presents the extended life limit:

Table 2.—Extended Life Limits After Incorporation of Required Inspections and Modifications
(1) SH1845 | 13,456 hours TIS.
(2) SH1847 | 20,200 hours TIS.
(3) SH1883 | 15,000 hours TIS.

(g) For airplanes with serial numbers SH1889, SH1943, or SH1960: You can extend the life limits by doing the actions of Shorts Service Bulletin No. 51-52, Revision No.: 4, dated: July 16, 2002 (and all service information or modification referenced in the Planning Information section of the service bulletin including Shorts Service Bulletin No. 51-51, Revision No.: 6, dated: March 14, 1983; or Shorts Service Bulletin No. 51-51, Revision No.: 8, dated: July 5, 2006. You cannot use Shorts Service Bulletin No. 51-51, Revision No.: 7, dated January 2005.), and Shorts Skyvan Maintenance Program, Amendment List No. 22, dated May 7, 2003, or Amendment List No. 23, dated December 14, 2004, or future revisions. Any future revisions to this maintenance program shall not change the inspeciton intervals, requirements, or the life limits of this AD. The following table presents the extended life limit:

Table 3.—Extended Life Limits After Incorporation of Required Inspections and Modifications
Serial No. | Extended life limit
(1) SH1889: | 20,094 flights.
(2) SH1943: | 17,325 flights.
(3) SH1960: | 8,449 flights.

(h) For airplanes that do not encompass either serial number SH1845, SH1847, SH1883, SH1889, SH1943, or SH1960: You can extend the life limit to 27,000 flights by doing the actions of Shorts Service Bulletin No. 51-51, Revision No.: 6, dated: March 14, 1983; or Shorts Service Bulletin No. 51-51, Revision No.: 8, dated: July 5, 2006; and Shorts Skyvan Maintenance Program, Amendment List No. 22, dated May 7, 2003; or Amendment List No. 23, dated December 14, 2004; or future revisions. Any future revisions to this mainenance program shall not change the inspection intervals, requirements, or the life limits of this AD. You cannot use Shorts Service Bulletin No. 51-51, Revision No.: 7, dated: January 2005.

(i) The repetitive visual inspection requirements using Shorts Service Bulletin No. 57-59, which is referenced on page 3 of Shorts Service Bulletin No. 51-51, Revision No.: 6, dated: March 14, 1983, paragraph C (Special limitations) are every 2,400 flights and the repetitive visual inspeciton program in Skyvan Maintenance Program, Maintenance Program Appendix 1, parts A and B (Section 57-00, Item 3), are every 1,100 flights or 800 hours TIS intervals, whichever occurs first. You msut use the repetitive inspection intervals of the Skyvan Maintenance Program for the repetitive inspection of the wing structure, skin, and skin doublers to be every 1,100 flights or 800 hours TIS, whichever occurs first and not the 2,400 flights as stated in Shorts Service Bulletin No. 51-51, Revisions No.: 6, dated: March 14, 1983.

Alternative Methods of Compliance (AMOCs)

(j) The Manager, Standards Office, Small Airplane Directorate, FAA, ATTN: Doug Rudolph, Aerospace Engineer, FAA, Small Airplane Directorate, 901 Locust, Room 301, Kansas City, Missouri 64106; telephone: (816) 329-4059; facsimile: (816) 329-4090, has the authority to approve AMOCs for this AD, if requested using the procedures found in 14 CFR 39.19.

(k) AMOCs approved for AD 2003-17-05 are approved for this AD.

Related Information

(1) The European Aviation Safety Agency (EASA) AD No.: 2006-0190, dated July 6, 2006, also addresses the subject of this AD. To get copies of the service information referenced in this AD, contact Short Brothers PLC, P.O. Box 241, Airport Road, Belfast BT3 9DZ Northern Ireland; telephone: +44 (0) 28 9045 8444; facsimile: +44 (0) 28 9073 3396. To view the AD docket, go to the Docket Management Facility; U.S. Department of Transportation, 400 Seventh Street, S.W., Nassif Building, Room PL-401, Washington, DC, or on the Internet at http://dms.dot.gov. The docket number is Docket No. FAA-2006-25926; Directorate Identifier 2000-CE-17-AD.

Issued in Kansas City, Missouri, on November 20, 2006.
David R. Showers,
Acting Manager, Small Airplane Directorate, Aircraft Certification Service.

[FR Doc. 06-9427 Filed 11-27-06; 8:45 am]

BILLING CODE 4910-13-M